DEPARTMENT OF DEFENSE

Department of the Army; Corps of Engineers

Intent To Prepare a Draft Supplemental Environmental Impact Statement for the Brevard County (Mid-Reach) Shore Protection Project Located in Brevard County, FL

AGENCY: Department of the Army, U.S. Army Corps of Engineers, DoD.

ACTION: Notice of intent.

SUMMARY: The U.S. Army Corps of Engineers, Jacksonville District, intends to prepare a Draft Supplemental Environmental Impact Statement (DSEIS) for the Brevard County (Mid-Reach) Shore Protection Feasibility Study. The study will focus on 7.6 miles of developed shoreline, also referred to as the “Mid-Reach”, from the south end of Patrick Air Force Base to just north of Indialantic. Ongoing erosion problems are endangering the shoreline infrastructure within the study area. In cooperation with Brevard County, the study will evaluate alternative solutions that will maximize shore protection while minimizing environmental impacts.

ADDRESSES: U.S. Army Corps of Engineers, Planning Division, Environmental Branch, P.O. Box 4970, Jacksonville, FL 32232-0019.

FOR FURTHER INFORMATION CONTACT: Mr. Paul E. Stodola, by e-mail Paul.E.Stodola@saj02.usace.army.mil or by telephone at (904) 232-3271.

SUPPLEMENTARY INFORMATION: a. Proposed Action. The Brevard County, FL, (Mid-Reach) Shore Protection Feasibility Study was authorized by Section 418 of the Water Resources and Development act of 2000 (Pub. L. 106-541). The entire 7.6-mile length of the Mid-Reach shoreline has been critically eroded with 62% of its oceanfront development anticipated to be lost to storm damage during the next 50 years. Placement of beach quality sand from various sources along the Mid-Reach will be evaluated with the intent of providing the greatest opportunity of shoreline protection. Environmental considerations will be addressed in a DSEIS, which will supplement the Environmental Impact Statement prepared for the Brevard County Shore Protection Project in 1996. Subsequently a final SEIS will be published.

b. Alternatives. Specific proposed alternatives at this time include hydraulic beach fill along the entire length or portions of the Mid-Reach, truck-haul beach fill along the entire length or portions of the Mid-Reach, dune fill, and no-action.

c. Scoping Process. the scoping process as outlined by the Council on Environmental Quality would be utilized to involve Federal, State, and local agencies, affected Indian tribes, and other interested persons and organizations. A scoping letter dated April 1, 2005, was sent to the appropriate parties requesting their comments and concerns. Any persons and organizations wishing to participate in the scoping process should contact the U.S. Army Corps of Engineers at the above address.

Significant issues to be analyzed in the DSEIS would include effects on Federally listed threatened and endangered species, Essential Fish Habitat with particular concern for nearshore coquina reefs and worm rock. Other issues would be health and safety, water quality, aesthetics and recreation, fish and wildlife resources, cultural resources, socio-economic resources, and any issues identified through scoping and public involvement.

The proposed action would be coordinated with the U.S. Fish and Wildlife Service and the National Marine Fisheries Service (NMFS) pursuant to Seciton 7 of the Endangered Species Act, with the NMFS concerning Essential Fish Habitat, and with the State Historic Preservation Officer.

The proposed action would also involve evaluation for compliance with guidelines pursuant to Section 404(b) of the Clean Water Act; application (to the State of Florida) for Water Quality Certification pursuant to Section 401 of the Clean Water Act; certification of state lands, easements, and rights of way; and determination of Coastal Zone Management Act consistency.

The U.S. Army Corps of Engineers and the Non-Federal sponsor, Brevard County, would provide extensive information and assistance on the resources to be impacted and alternatives.

d. Scoping Meetings. Public scoping meetings would be held. Exact dates, times, and locations would be published in local papers.

e. Draft Supplemental Environmental Impact Statement Availability. The Draft Supplemental Environmental Impact Statement would be available on or about April 2006.

Dated: April 13, 2005.
Dennis W. Barnett,
Acting Chief, Planning Division.

[FR Doc. 05-8283 Filed 4-25-05; 8:45 am]

BILLING CODE 3710-AJ-M